DEPARTMENT OF ENERGY

Federal Energy Regulatory Commission

[Docket No. PF15-2-000]

Venture Global Calcasieu Pass, LLC; Notice of Intent To Prepare an Environmental Impact Statement for the Planned Calcasieu Pass Project, and Request for Comments on Environmental Issues, and Notice of Public Scoping Meeting

The staff of the Federal Energy Regulatory Commission (FERC or Commission) will prepare an environmental impact statement (EIS) that will discuss the environmental impacts of the Calcasieu Pass Project involving construction and operation of LNG export facilities by Venture Global Calcasieu Pass, LLC (Venture Global) in Cameron Parish, Louisiana. The Commission will use this EIS in its decision-making process to determine whether the project is in the public convenience and necessity.

This notice announces the opening of the scoping process the Commission will use to gather input from the public and interested agencies on the project. Your input will help the Commission staff determine what issues they need to evaluate in the EIS. Please note that the scoping period will close on February 19, 2015.

You may submit comments in written form or verbally. Further details on how to submit written comments are in the Public Participation section of this notice. If you sent comments on this project to the Commission before the opening of this docket on October 10, 2014, you will need to file those comments in Docket No. PF15-2-000 to ensure they are considered as part of this proceeding. In lieu of or in addition to sending written comments, the Commission invites you to attend the public scoping meeting scheduled as follows: FERC Public Scoping Meeting, Calcasieu Pass Project, February 5, 2015/7-9 p.m. CST, Cameron Parish School Board Educational Conference Center, 510 Marshall Street, Cameron, LA 70631.

This notice is being sent to the Commission's current environmental mailing list for this project. State and local government representatives should notify their constituents of this planned project and encourage them to comment on their areas of concern.

The purpose of this scoping meeting is to provide the public an opportunity to learn more about the Commission's environmental review process, and to verbally comment on the project. The scoping meeting will start at 6:00 p.m. and representatives from Venture Global will be present one hour prior to the start of the meeting to answer questions about the project. Additionally, Venture Global has established an Internet Web site at www.venturegloballng.com that will be updated as the environmental review of its project proceeds.

Affected landowners and interested groups and individuals are encouraged to attend the scoping meetings and present comments on the issues they believe should be addressed in the EIS. A transcript of the meeting will be added to the Commission's administrative record to ensure that your comments are accurately recorded.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Summary of the Planned Project

Venture Global plans to construct and operate an LNG export facility in Cameron Parish, Louisiana adjacent to the Calcasieu Ship Channel. The facility would receive natural gas from North American sources and would liquefy and store it for export. When constructed, the project could process about 487.2 billion cubic feet per year (Bcf/yr) of natural gas.

The Calcasieu Pass project would consist of the following facilities:

• Ten (10) liquefaction blocks;

• two (2) LNG storage tanks, each with approximately 200,000 cubic meter (“m³”) storage capacity;

• two (2) marine berthing docks, to accommodate LNG carriers ranging from 120,000 m³ to 185,000 m³ of carrying capacity;

• a temporary floating LNG storage vessel berthed at one of the LNG berthing docks, which would be discontinued after the first permanent LNG storage tank becomes operational;

• a turning basin on the Calcasieu Ship Channel;

• a utility dock;

• a gas-fired electric generation facility with generating capacity of approximately 600 megawatts (“MW”) that will be constructed to provide power for the project facilities;

• two natural gas pipelines to connect to existing transmission pipelines, a 23.8-mile-long, 42-inch-diameter pipeline and a 42-inch-diameter, 18.5-mile-long pipeline;

• a Gas Gate Station to receive gas from the two lateral pipelines and will include pig ¹ receivers, filter/separators, custody transfer meters, pressure regulators, emergency shutdown valves, and gas analyzers;

¹ A “pig” is a tool that the pipeline company inserts into and pushes through the pipeline for cleaning the pipeline, conducting internal inspections, or other purposes.

• various buildings, including administration, control rooms, electrical equipment, workshop, and warehouse buildings and structures;

• connection to the existing municipal water supply for construction and potable water requirements, and the potential drilling of groundwater wells to allow for water-cooling of the power plant;

• facilities associated with the project site's communication system; and

• facilities associated with plant safety and security.

The general location of the project facilities is shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned facilities would disturb about 914.1 acres of land for the aboveground facilities and the pipeline. Following construction, Venture Global would maintain about 347.6 acres for permanent operation of the project's facilities and pipeline.

The Terminal facilities will occupy an approximately 203.6-acre property adjacent to the Calcasieu Ship Channel. Of the 203.6 acres, 86.8 acres will support permanent operational facilities and 116.8 acres will be used for temporary workspace. Of the 86.8 acres supporting permanent operational facilities, 8.6 acres will be converted to open water through excavation and dredging to create the LNG berthing area.

Collectively, the approximately 42.3-mile long pipelines would require 665.7 acres of construction workspace (of which 415.78 acres will be temporary workspace and 250.0 acres will remain as the permanent operational right-of-way).

The EIS Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned project under these general headings:

• Geology and soils;

• land use;

• socioeconomics;

• water resources, fisheries, and wetlands;

• cultural resources;

• vegetation and wildlife;

• air quality and noise;

• endangered and threatened species;

• reliability and safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section on the following page.

With this notice, we are asking agencies with jurisdiction by law and/or special expertise with respect to the environmental issues related to this project to formally cooperate with us in the preparation of the EIS.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Louisiana State Historic Preservation Office (SHPO), and to solicit their views and those of other government agencies, interested Indian tribes, and the public on the project's potential effects on historic properties.⁵ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Venture Global. This preliminary list of issues may change based on your comments and our analysis:

• Protected species;

• cultural resources;

• water resources;

• Coastal Zone Management Act;

• fisheries;

• site alternatives;

• ship traffic;

• public safety; and

• cumulative impacts.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before February 19, 2015.

For your convenience, there are three methods you can use to submit your comments to the Commission. In all instances, please reference the project docket number (PF15-2-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (Appendix 2).

Becoming an Intervenor

Once Venture Global files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-2). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: January 20, 2015.
Kimberly D. Bose,
Secretary.

[FR Doc. 2015-01497 Filed 1-27-15; 8:45 am]

BILLING CODE 6717-01-P